DEPARTMENT OF HEALTH AND HUMAN SERVICES

Office of the Secretary

Findings of Research Misconduct

AGENCY: Office of the Secretary, HHS.

ACTION: Notice.

SUMMARY: Findings of research misconduct have been made against Erin N. Potts Kant (Respondent), former Clinical Research Coordinator, Division of Pulmonary, Allergy, and Critical Care Medicine (PMCCM), Duke University School of Medicine (Duke). Ms. Potts Kant engaged in research misconduct in research supported by U.S. Public Health Service (PHS) funds, specifically National Heart, Lung, and Blood Institute (NHLBI), National Institutes of Health (NIH), grants HL105702, HL005009, HL058795, HL036982, HL044984, HL062472, HL067021, HL067281, HL067669, HL068072, HL073896, HL077291, HL077763, HL079915, HL081285, HL081763, HL082504, HL084123, HL084917, HL085655, HL086887, HL087094, HL090146, HL090265, HL098099, HL091140, HL091335, HL091642-02, HL092994, HL073907, and HL111151; National Institute of Allergy and Infectious Diseases (NIAID), NIH, grants AI081672, AI089756, AI068822, AI056101, AI067798, AI074751, AI050021, AI058161, AI064789, and AI052201; National Institute on Environmental Health Sciences (NIEHS), NIH, grants ES020426, ES007943, ES011961, ES012496, ES016836, ES012717, ES015675, ES016126, ES016347, ES016659, and ES020350; National Institute of Diabetes and Digestive and Kidney Diseases (NIDDK), NIH, grants DK050814, DK077159, and DK077307; National Cancer Institute (NCI), NIH, grants CA142842 and CA092656; National Center for Research Resources (NCRR), NIH, grants RR005959 and RR024127; and National Institute of Child Health and Human Development (NICHD), NIH, grant HD043728. The administrative actions, including permanent debarment, were implemented beginning on October 1, 2019, and are detailed below.

FOR FURTHER INFORMATION CONTACT: Elisabeth A. Handley, Interim Director, Office of Research Integrity, 1101 Wootton Parkway, Suite 240, Rockville, MD 20852, (240) 453-8200.

SUPPLEMENTARY INFORMATION: Notice is hereby given that the Office of Research Integrity (ORI) has taken final action in the following case:

Erin N. Potts Kant, Duke University School of Medicine: Based on the report of an investigation conducted by Duke, an admission from the Respondent, and additional analysis conducted by ORI in its oversight review, ORI found that Erin N. Potts Kant, former Clinical Research Coordinator, PMCCM, Duke, engaged in research misconduct in research supported by PHS funds, specifically NHLBI, NIH, grants HL105702, HL005009, HL058795, HL036982, HL044984, HL062472, HL067021, HL067281, HL067669, HL068072, HL073896, HL077291, HL077763, HL079915, HL081285, HL081763, HL082504, HL084123, HL084917, HL085655, HL086887, HL087094, HL090146, HL090265, HL098099, HL091140, HL091335, HL091642-02, HL092994, HL073907, and HL111151; NIAID, NIH, grants AI081672, AI089756, AI068822, AI056101, AI067798, AI074751, AI050021, AI058161, AI064789, and AI052201; NIEHS, NIH, grants ES020426, ES007943, ES011961, ES012496, ES016836, ES012717, ES015675, ES016126, ES016347, ES016659, and ES020350; NIDDK, NIH, grants DK050814, DK077159, and DK077307; NCI, NIH, grants CA142842 and CA092656; NCRR, NIH, grants RR005959 and RR024127; and NICHD, NIH, grant HD043728.

Affected data were included in grant applications ES023609, ES016126-07, ES023283, ES019585, ES016347, ES016659, ES020350, ES020426, ES017219, and ES016836 submitted to NIEHS, NIH; grant applications HL099800, HL091642-02, HL111151, HL107590, HL092994, and HL105702 submitted to NHLBI, NIH; grant applications AI081672-06, AI067798, AI052201, and AI081672 submitted to NIAID, NIH; and grant application NS084893 submitted to the National Institute of Neurological Disorders and Stroke (NINDS), NIH.

ORI found that Respondent engaged in research misconduct by knowingly and intentionally falsifying and fabricating research data included in one hundred and seventeen (117) figures and two (2) tables in thirty-nine (39) published papers, three (3) manuscripts, and two (2) research records.

Specifically, the Respondent:

• Falsified flexiVent data for lung-function measurements in mice by changing numerical values in the datasets generated by the apparatus, or fabricated flexiVent datasets, and provided the false data to investigators for inclusion in ninety-three (93) figures and one (1) table in thirty-two (32) published papers and two (2) manuscripts

• falsified flexiVent data that were included in seventy-two (72) figure panels and one (1) table in the following thirty-two (32) published papers and two (2) manuscripts:

—Figures 2b-2f in Pediatric Res. 2013;74(1):11-18 (hereafter referred to as the “Pediatric Res. 2013 paper”)

—Figures 2a, 2c, and 2d in J. Appl. Physiol. 2013 Articles In Press version; Retraction in: J. Appl. Physiol. 2013;114(12):1762

—Figures 2a, 5a, and 5b in Env. Health Perspect. 2012;120(12):1692-8; Retraction in: Env. Health Perspect. 2015;123(7):A172

—Figures 3b and 4c in J. Allergy and Clin. Immunol. 2012;130(1):205-14.e2 (hereafter referred to as the “J. Allergy and Clin. Immunol. paper”); Correction in: J. Allergy and Clin. Immunol. 2015;137(1)

—Figures 2 and 3d in Free Rad. Biol. and Med. 2012;52(3):705-15 (hereafter referred to as the “Free Rad. Biol. and Med. paper”)

—Figures 1b, 1c, 6a, 6b, and 6c in PLoS One 2011;6(11):e27137 (hereafter referred to as the “PLoS One 2011 paper”)

—Figure 4 in Am. J. Respir. Cell Mol. Biol. 2012;46(4):454-60 (hereafter referred to as the “Am. J. Respir. Cell Mol. Biol. 2012 paper”); Retraction in: Am J. Respir. Cell Mol. Biol. 2015;52(4):523

—Supplemental Figure E2 in Am. J. Respir. Cell Mol. Biol. 2012;46(2):249-56

—Figure 5c in J. Immunol. 2011;187(9):4800-8; Correction in: J. Immunol. 2016; 196(5):2424

—Figure 1 in J. Allergy Ther. 2011(Suppl 1):001 (hereafter referred to as the “J. Allergy Ther. 2011 paper”)

—Figure 2b in Am. J. Physiol. Lung Cell. Mol. Physiol. 2011;301(5):L739-L744 (hereafter referred to as the “Am. J. Physiol. Lung Cell. Mol. Physiol. 2011a paper”); Retraction in: Am. J. Physiol. Lung Cell Mol. Physiol. 2015;308(9):L981

—Figures 1 and 4 in Env. Health Perspect. 2011;119(10):1403-8 (hereafter referred to as the “Env. Health Perspect. 2011 paper”); Retraction: Env. Health Perspect. 2016;124(4):A69

—Figures 1a, 2a (middle panel), and 7d in J. Clin. Invest. 2011;121(3):941-4 (hereafter referred to as the “J. Clin. Invest. 2011 paper”

—Figures 1a, 1b, and 2b in PNAS 2011;108(5):2100-5 (hereafter referred to as the “PNAS 2011 paper”); Retraction: PNAS 2014;112(14):E1813

—Figures 5, 6, and 8 in Am. J. Resp. Crit. Care Med. 2011;183(12):1644-52 (hereafter referred to as the “Am. J. Resp. Crit. Care Med. 2011 paper”)

—Figures 2c, 4c, and 5c in J. Immunol. 2010;185(11):6891-8 (hereafter referred to as the “J. Immunol. 2010 paper”); Erratum in: J. Immunol. 2016;196(5):2426

— Figure 6 in Am. J. Physiol. Lung Cell. Mol. Physiol. 2010;299(3):L345-L352 (hereafter referred to as the “Am. J. Physiol. Lung Cell. Mol. Physiol. 2010 paper”); Correction in: Am J. Physiol. Lung Cell Mol. Physiol. 2015;309(7):L750

—Figures 2a and 2b in Pediatric Res. 2010;68(1):70-74; Retraction in: Pediatric Res. 2015;77(4):606

—Table 1, Figures 1 and 7 in Am. J. Physiol. Lung Cell. Mol. Biol. 2011;44(2):175-84 (hereafter referred to as the “Am. J. Physiol. Lung Cell. Mol. Biol. 2011b paper”)

—Figure 3a in Am. J. Resp. Crit. Care Med. 2010;181(7):666-75; Expression of Concern: Am. J. Resp. Crit. Care Med. 2015;192(6):771

—Figure 4d in PNAS 2009;106(28):11691-6; Correction in: PNAS 2015;112(29):E3970

—Figures 1a, 1b, 5a, and 5b in J. Immunol. 2009;182(12):7818-27; Correction in: J. Immunol. 2015;195(6):2917

—Figure 5B in Am. J. Resp. Crit. Care Med. 2009;180(1):11-18 (hereafter referred to as the “Am. J. Resp. Crit. Care Med. 2009 paper”)

—Figures 3B and 3C in NMR Biomed. 2009;22(5):502-15; Erratum in: NMR Biomed. 2015;28(9):1185

—Figures 5b, 7b, 7c, 8c, and 9a in J. Biol. Chem. 2009;284(17):11309-17; Correction in: J. Biol. Chem. 2016;291(37):19257

—Figure 1 in Am. J. Physiol. Lung Cell. Mol. Biol. 2009;41(1):107-13

—Figures 1b and 1c in J. Leukoc. Biol. 2009;85(1):124-31

—Figure 1a in J. Clin. Inv. 2008;118(10):3462-9; Retraction: J. Clin. Inv. 2016;126(5)

—Figure 9a in Am. J. Physiol. Lung Cell. Mol. Physiol. 294(1):L139-L148, 2008; Retraction: Am. J. Physiol. Lung Cell Mol. Physiol. 308(8):L854, 2015

—Figures 1a, 1b, and 1c in J. Immunol. 2007;2179:4367-75 (hereafter referred to as the “J. Immunol. 2007 paper”); Correction: J. Immunol. 2016;196:2425

—Figure 1a in PLoS One 2012;7(9):e45667; Retraction: PloS One 2016; http://dx.doi.org/10.1371/journal.pone.0155287

—Figures 4 and 6 in J. Allergy Ther. 2012;S1:004

—Figure 2b in a draft manuscript for PLoS One 2014;9(5):e97951; Corrected before publication

—Figures 7a and 7b in a draft manuscript for Am. J. Physiol. Lung Cell. Mol. Biol. 2014;51(6):810-21

• fabricated flexiVent data that were included in twenty-one (21) figure panels in the following twelve (12) published papers:

—Figure 2a in the Pediatric Res. 2013 paper

—Figure 6a in the J. Allergy and Clin. Immunol. paper

—Figure 8 in J. App. Physiol. 2012;112(9):1437-44 (hereafter referred to as the “J. App. Physiol. 2012 paper”)

—Figures 2 and 3d in the Free Rad. Biol. Med. paper

—Figure 1a in the PLoS One 2011 paper

—Figure 5 in the Am. J. Resp. Crit. Care Med. 2011 paper

—Figures 1b, 1d, and 3 in the Am. J. Physiol. Lung Cell. Mol. Physiol. 2011a paper

—Figures 1 and 4 in the Env. Health Perspec. 2011 paper

—Figure 2a (right panel) in the J. Clin. Inv. 2011 paper

—Figures 1a and 2a in the PNAS 2011 paper

—Figures 2c, 4c, and 5c in the J. Immunol. 2010 paper

—Figures 1a, 1b, and 1c in the J. Immunol. 2007 paper

• falsified cytokine multiplex immunoassay data for murine bronchoalveolar lavage by changing certain numerical values in datasets generated by the assay, or fabricated multiplex immunoassay data, and provided the false data to investigators for inclusion in fourteen (14) figure panels and one (1) table in eleven (11) published papers, one (1) manuscript, and two (2) research records.

• falsified multiplex data that were included in thirteen (13) figure panels and one (1) table in the following ten (10) published papers, one (1) manuscript, and one (1) research record:

—Table 3 and Figure 4 in Am. J. Resp. Crit. Care Med. 2012;186(5):404-11

—Figures 3b and 3c in Am. J. Physiol. Lung Cell. Mol. Physiol. 2012;303(3):L181-L188

—Figures 1 and 3 in the Am. J. Physiol. Lung Cell. Mol. Biol. 2012 paper

—Figure 3 in the J. Allergy Ther. 2011 paper

—Figure 4 in the Am. J. Physiol. Lung Cell. Mol. Physiol. 2011a paper

—Figure 3 in the Am. J. Physiol. Lung Cell. Mol. Biol. 2011b paper

—Figure 2 in the J. Physiol. Lung Cell. Mol. Physiol. 2010 paper

—Figure 4 in Am. J. Resp. Crit. Care Med. 2009;180(12):1218-26

—Figure 7 in the Am. J. Resp. Crit. Care Med. 2009 paper

—Figure 1 in FASEB 2016;26(11):4743-54

—Figure 2 in a draft manuscript of the 2013 Env. Health Perspec. paper

—Unpublished research record for hydroxyproline-related data

• fabricated multiplex data that were included in one (1) figure in the following published paper:

—Figure 7 in the J. Appl. Physiol. 2012 paper

Ms. Potts Kant entered into a Voluntary Exclusion Agreement (Agreement) and voluntarily agreed, beginning on October 1, 2019:

(1) To exclude herself permanently from any contracting or subcontracting with any agency of the United States Government and from eligibility for or involvement in nonprocurement programs of the United States Government referred to as “covered transactions” pursuant to HHS' Implementation (2 CFR part 376) of OMB Guidelines to Agencies on Governmentwide Debarment and Suspension, 2 CFR part 180 (collectively the “Debarment Regulations”); and

(2) to exclude herself permanently from serving in any advisory capacity to PHS including, but not limited to, service on any PHS advisory committee, board, and/or peer review committee, or as a consultant.

Elisabeth A. Handley,
Interim Director, Office of Research Integrity.

[FR Doc. 2019-24291 Filed 11-6-19; 8:45 am]

BILLING CODE 4150-31-P